DEPARTMENT OF THE TREASURY

Community Development Financial Institutions Fund

Guarantee Application Deadline

ACTION: Notice of change to Guarantee Application deadline.

Catalog of Federal Domestic Assistance (CFDA) Number: 21.011.

SUMMARY: On November 2, 2017, the Community Development Financial Institutions Fund (CDFI Fund) published a Notice of Guarantee Availability (NOGA) under the CDFI Bond Guarantee Program in the Federal Register (82 FR 50944, November 2, 2017) announcing the availability of up to $500 million in Guarantee Authority, contingent upon Congressional authorization. The CDFI Fund is issuing this notice to amend the NOGA Guarantee Application deadline from 11:59 p.m. EST on January 23, 2018, to 11:59 p.m. EST on February 16, 2018. The deadline for Qualified Issuer Applications will remain at 11:59 p.m. EST on January 9, 2018, and the CDFI Certification Applications must have been received by the CDFI Fund by 11:59 p.m. EST on November 30, 2017, in accordance with the NOGA published on November 2, 2017.

Capitalized terms used in this NOGA and not defined elsewhere are defined in the CDFI Bond Guarantee Program regulations (12 CFR 1808.102) and the CDFI Program Regulations (12 CFR 1805.104).

All other information and requirements set forth in the NOGA published on November 2, 2017, shall remain effective, as published.

I. Agency Contacts

A. General information on questions and CDFI Fund support. The CDFI Fund will respond to questions and provide support concerning this NOGA and the Guarantee Application between the hours of 9:00 a.m. and 5:00 p.m. ET, starting on November 2, 2017, until February 6, 2018. Applications and other information regarding the CDFI Fund and its programs may be obtained from the CDFI Fund's website at http://www.cdfifund.gov. The CDFI Fund will post on its website responses to questions of general applicability regarding the CDFI Bond Guarantee Program.

B. The CDFI Fund's contact information is as follows:

Table 2—Contact Information
Type of question | Telephone number (not toll free) | Email addresses
CDFI Bond Guarantee Program | (202) 653-0421 Option 5 | bgp@cdfi.treas.gov.
CDFI Certification | (202) 653-0423 | ccme@cdfi.treas.gov.
Compliance Monitoring and Evaluation | (202) 653-0423 | ccme@cdfi.treas.gov.
Information Technology Support | (202) 653-0422 | AMIS@cdfi.treas.gov.

C. Communication with the CDFI Fund. The CDFI Fund will use the AMIS internet interface to communicate with applicants, Qualified Issuers, Program Administrators, Servicers, Certified CDFIs and Eligible CDFIs, using the contact information maintained in their respective AMIS accounts. Therefore, each such entity must maintain accurate contact information (including contact person and authorized representative, email addresses, fax numbers, phone numbers, and office addresses) in its respective AMIS account. For more information about AMIS, please see the AMIS Landing Page at https://amis.cdfifund.gov.

Authority: Pub. L. 111-240; 12 U.S.C. 4701, et seq.; 12 CFR part 1808; 12 CFR part 1805; 12 CFR part 1815

Mary Ann Donovan,
Director, Community Development Financial Institutions Fund.

[FR Doc. 2018-00813 Filed 1-17-18; 8:45 am]

BILLING CODE 4810-70-P